DEPARTMENT OF VETERANS AFFAIRS

[OMB Control No. 2900-0049]

Agency Information Collection (Approval of School Attendance): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0049” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0049” in any correspondence.

SUPPLEMENTARY INFORMATION:

Titles:

a. Request for Approval of School Attendance, VA Form 21-674 and 21-674c.

b. School Attendance Report, VA Form 21-674b.

OMB Control Number: 2900-0049.

Type of Review: Revision of a currently approved collection.

Abstract: Recipients of disability compensation, dependency and indemnity compensation, disability pension, and death pension are entitled to benefits for eligible children between the ages of 18 and 23 who are attending school. VA Forms 21-674, 21-674c and 21-674b are used to confirm school attendance of children for whom VA compensation or pension benefits are being paid and to report any changes in entitlement factors, including marriages, a change in course of instruction and termination of school attendance.

An agency may not conduct or sponsor, and a person is not required to respond to a collection of information unless it displays a currently valid OMB control number. The Federal Register Notice with a 60-day comment period soliciting comments on this collection of information was published on October 2, 2014, at pages 59555-59556.

Affected Public: Individuals or households.

Estimated Annual Burden:

a. VA Forms 21-674 and 674c—34,500 hours.

b. VA Form 21-674b—3,292 hours.

Estimated Average Burden Per Respondent:

a. VA Forms 21-674 and 674c—15 minutes.

b. VA Form 21-674b—5 minutes.

Frequency of Response: On occasion.

Estimated Number of Respondents:

a. VA Forms 21-674 and 674c—138,000 hours.

b. VA Form 21-674b—39,500 hours.

Dated: December 15, 2014.
By direction of the Secretary.
Crystal Rennie,
VA Clearance Officer, Department of Veterans Affairs.

[FR Doc. 2014-29665 Filed 12-18-14; 8:45 am]

BILLING CODE 8320-01-P